DEPARTMENT OF LABOR

Employment and Training Administration

[TA-W-64,838]

Crosby, National Swage Division; Jacksonville, AR; Notice of Termination of Investigation

Pursuant to Section 221 of the Trade Act of 1974, as amended, an investigation was initiated on January 9, 2009 in response to a worker petition filed by a state agency representative on behalf of workers of Crosby, National Swage Division, Jacksonville, Arkansas.

The petitioner has requested that the petition be withdrawn. Consequently, the investigation has been terminated.

Signed at Washington, DC, this 17th day of March 2009.
Linda G. Poole,
Certifying Officer, Division of Trade Adjustment Assistance.

[FR Doc. E9-7125 Filed 3-30-09; 8:45 am]

BILLING CODE 4510-FN-P